FEDERAL COMMUNICATIONS COMMISSION

Notice of Public Information Collection(s) Being Reviewed by the Federal Communications Commission, Comments Requested

February 3, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 12, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION:

OMB Control No.: 3060-0621.

Title: Rules and Requirements for C & F Block Broadband PCS Licenses.

Form No.: N/A.

Type of Review: Extension of a currently approved collection.

Respondents: Individuals or households, business or other for-profit, not-for-profit institutions, and state, local or tribal government.

Number of Respondents: 3,000.

Estimated Time Per Response: .50-20 hours.

Frequency of Response: On occasion reporting requirement and recordkeeping requirement.

Total Annual Burden: 14,044 hours.

Total Annual Cost: N/A.

Needs and Uses: The Commission's rules require applicants to file information so that the Commission can determine whether the applicants are legally, technically and financially qualified to be licensed and to determine whether applicants claiming different eligibility status are entitled to certain benefits.

OMB Control No.: 3060-0779.

Title: Amendment to Part 90 of the Commission's Rules to Provide for Use of the 220-222 MHz Band by the Private Land Mobile Radio Service, PR Docket No. 89-552.

Form No.: N/A.

Type of Review: Extension of a currently approved collection.

Respondents: Individuals or households, business or other for-profit, not-for-profit institutions, and state, local or tribal government.

Number of Respondents: 27,062 respondents; 31,467 responses.

Estimated Time Per Response: 1-50 hours.

Frequency of Response: On occasion reporting requirement and third party disclosure requirement.

Total Annual Burden: 112,450 hours.

Total Annual Cost: $28,490,000.

Needs and Uses: This collection includes rules which govern the operation and licensing of the 220-222 MHz band (220 MHz service). In establishing this licensing plan, the FCC's goal is to establish a flexible regulatory framework that allows for efficient licensing of the 220 MHz service, eliminate unnecessary regulatory burdens and enhance the competitive potential of the 220 MHz service in the mobile service marketplace. However, as with any licensing and operational plan for radio service, a certain number of regulatory and informational burdens are necessary to verify licensee compliance with FCC rules.

OMB Control No.: 3060-0897.

Title: MDS and ITFS Two-Way Transmissions.

Form No.: N/A.

Type of Review: Extension of a currently approved collection.

Respondents: Business or other for-profit, not-for-profit institutions, and state, local or tribal government.

Number of Respondents: 130,888.

Estimated Time Per Response: .083-40 hours.

Frequency of Response: On occasion reporting requirement, recordkeeping requirement and third party disclosure requirement.

Total Annual Burden: 223,618 hours.

Total Annual Cost: $5,431,000.

Needs and Uses: This information collection includes rules that collectively form the Multipoint Distribution Service (MDS) and Instruction Television Fixed Service (ITFS) two-way services. The Commission's rules for two-way transmissions for MDS and ITFS will allow two-way licensing and provide greater flexibility in the use of the allotted spectrum to licensees. The rules will further eliminate market entry barriers for small entities. The Commission will use this information to ensure that MDS and ITFS applicants, conditional licensees, and licensees have considered properly under the FCC's rules the potential for harmful interference from their facilities.

OMB Control No.: 3060-0926.

Title: The Transfer of the Bands from Federal Government Use: Notice of Proposed Rulemaking (NPRM).

Form No.: N/A.

Type of Review: Extension of a currently approved collection.

Respondents: Business or other for-profit and Federal Government.

Number of Respondents: 200 respondents; 1,200 responses.

Estimated Time Per Response: 1-20 hours.

Frequency of Response: On occasion reporting requirement and third party disclosure requirement.

Total Annual Burden: 22,600 hours.

Total Annual Cost: N/A.

Needs and Uses: The various information reporting and verification requirements, and the prospective coordination requirement (third party disclosure requirement) will be used by the Commission to verify licensee compliance with Commission rules and regulations, and to ensure that licensees continue to fulfill their statutory responsibilities in accordance with the Communications Act of 1934, as amended. Such information has been used in the past and will continue to be used to minimize interference, verify that applicants are legally and technically qualified to hold licenses, and to determine compliance with Commission rules.

OMB Control No.: 3060-0963.

Title: Section 101.527, Construction Requirements for 24 GHz Operations, and Section 101.529, Renewal Expectancy Criteria for 24 GHz Licensees.

Form No.: N/A.

Type of Review: Extension of a currently approved collection.

Respondents: Business or other for-profit.

Number of Respondents: 952.

Estimated Time Per Response: .50-20 hours.

Frequency of Response: Once every 10 years reporting requirement.

Total Annual Burden: 14,399 hours.

Total Annual Cost: $952,000.

Needs and Uses: The information required by these rule sections is used to determine whether a renewal applicant of a 24 GHz service system has complied with the requirement to provide substantial service by the end of the ten-year initial license term. The FCC uses this information to determine whether an applicant's license will be renewed at the end of the license period.

OMB Control No.: 3060-0950.

Title: Extending Wireless Telecommunications Services to Tribal Lands, WT Docket No. 99-266.

Form No.: N/A.

Type of Review: Extension of a currently approved collection.

Respondents: Business or other for-profit, not-for-profit institutions, and state, local or tribal government.

Number of Respondents: 3,844.

Estimated Time Per Response: 10 hours for recordkeeping requirement; 190 hours to obtain tribal consent and to file the necessary certifications and waivers.

Frequency of Response: On occasion reporting requirement and recordkeeping requirement.

Total Annual Burden: 768,800 hours.

Total Annual Cost: N/A.

Needs and Uses: This information collection implemented bidding credits for federally-recognized tribal areas that have a telephone service penetration rate below seventy percent to ensure that these tribal communities have access to wireless telecommunications services equivalent to that of the nation.

OMB Control No.: 3060-1058.

Title: Promoting Efficient Use of Spectrum Through the Elimination of Barriers to the Development of Secondary Markets, WT Docket No. 00-230.

Form No.: N/A.

Type of Review: Extension of a currently approved collection.

Respondents: Business or other for-profit, not-for-profit institutions, and state, local or tribal government.

Number of Respondents: 1,770.

Estimated Time Per Response: 1-4 hours.

Frequency of Response: On occasion reporting requirement and recordkeeping requirement.

Total Annual Burden: 7,813 hours.

Total Annual Cost: $1,222,040.

Needs and Uses: The required notifications and applications will provide the Commission with useful information about spectrum usage and helps to ensure that licensees and lessees are complying with Commission interference and non-interference related policies and rules. Similar information and verification requirements have been used in the past for licensees operating under authorizations, and such requirements will serve to minimize interference, verify lessees are legally and technically qualified to hold licenses, and ensure compliance with Commission rules. The Commission obtained emergency approval of this information collection on January 29, 2004. The Commission is now seeking extension (no change to the information collection requirements) to obtain the full three year OMB clearance.

OMB Control No.: 3060-XXXX.

Title: Allocations and Service Rules for the 71-76 GHz, 81-86 GHz and 92-95 GHz Bands, WT Docket No. 02-146, Report and Order.

Form No.: N/A.

Type of Review: New collection.

Respondents: Business or other for-profit.

Number of Respondents: 1,000.

Estimated Time Per Response: 1 hour.

Frequency of Response: On occasion reporting requirement and third party disclosure requirement.

Total Annual Burden: 1,000 hours.

Total Annual Cost: N/A.

Needs and Uses: The Commission issued a Report and Order in CC Docket No. 96-128, FCC 03-235, in which final service rules were adopted for the 71-76 GHz, 81-86 GHz and 92-95 GHz bands. The Report and Order provided that sharing and coordination among non-Federal Government links and between non-Federal Government and Federal Governments would occur according to the registration and coordination standards and procedures generally adopted in the Report and Order and as further detailed in subsequent implementation public notices issued consistent with that Order. The Commission is now seeking OMB approval of those final rules.

Federal Communications Commission.
Marlene H. Dortch,
Secretary.

[FR Doc. 04-3059 Filed 2-11-04; 8:45 am]

BILLING CODE 6712-01-P